NATIONAL COUNCIL ON DISABILITY

Advisory Committee Conference Call

AGENCY: National Council on Disability (NCD).

SUMMARY: This notice sets forth the schedule of the forthcoming conference call for NCD's advisory committee—Technology Watch. Notice of this meeting is required under Section 10(a)(1)(2) of the Federal Advisory Committee Act (Pub. L. 92-463).

Technology Watch: NCD's Technology Watch is a community-based, cross-disability, consumer task force on technology. Tech Watch provides information to NCD on issues relating to emerging legislation on technology and helps monitor compliance with civil rights legislation, such as Section 508 of the Rehabilitation Act of 1973, as amended.

DATES: September 15, 2000, 1:00 p.m. EDT.

For Technology Watch Information, Contact: Martin Gould, Research Specialist, National Council on Disability, 1331 F Street NW, Suite 1050, Washington, D.C. 20004; 202-272-2004 (voice), 202-272-2074 (TTY), 202-272-2022 (fax), mgould@ncd.gov (e-mail).

Agency Mission: The National Council on Disability is an independent federal agency composed of 15 members appointed by the President of the United States and confirmed by the U.S. Senate. Its overall purpose is to promote policies, programs, practices, and procedures that guarantee equal opportunity for all people with disabilities, regardless of the nature of severity of the disability; and to empower people with disabilities to achieve economic self-sufficiency, independent living, and inclusion and integration into all aspects of society.

This committee is necessary to provide advice and recommendations to NCD on assistive technology, information technology, telecommunication issues, and accessibility for people with disabilities.

We currently have balanced membership representing a variety of disabling conditions from across the United States.

Open Meeting/Conference Call: This advisory committee conference call of the National Council on Disability will be open to the public. However, due to fiscal constraints and staff limitations, a limited number of additional telephone lines will be available. Individuals can also participate in the conference call at the NCD office. Those interested in joining this conference call should contact the appropriate staff member listed above.

Records will be kept of all Technology Watch meetings/conference calls and will be available after the meeting for public inspection at the National Council on Disability.

Signed in Washington, DC, on August 24, 2000.
Jeffrey T. Rosen,
General Counsel and Director of Policy.

[FR Doc. 00-22247 Filed 8-30-00; 8:45 am]

BILLING CODE 6820-MA-M